DEPARTMENT OF JUSTICE

Antitrust Division

Notice Pursuant to the National Cooperative Research and Production Act of 1993—National Center for Manufacturing Sciences, Inc.

Notice is hereby given that, on April 30, 2012, pursuant to Section 6(a) of the National Cooperative Research and Production Act of 1993, 15 U.S.C. 4301 et seq. (“the Act”), National Center for Manufacturing Sciences, Inc. (“NCMS”) has filed written notifications simultaneously with the Attorney General and the Federal Trade Commission disclosing changes in its membership. The notifications were filed for the purpose of extending the Act's provisions limiting the recovery of antitrust plaintiffs to actual damages under specified circumstances. Specifically, ACE Clearwater Enterprises, Torrance, CA; Autodesk, Inc., San Rafael, CA; Chicago Coatings Group, Skokie, IL; Ciara Technologies, St. Laurent, Quebec, Canada; The Columbia Group, Inc., Washington, DC; Consumers Energy Company, Midland, MI; Curtiss-Wright Surface Technologies, Paramus, NJ; Fraunhofer USA, Inc., Plymouth, MI; Goodrich Corporation, Brecksville, OH; Parker-Hannifin Corporation, Machesney Park, IL; Perfect Point, Inc., Huntington Beach, CA; and Roush Industries, Inc., Livonia, MI, have been added as parties to this venture.

Also, adapt laser systems, LLC, Kansas City, MO; Advanced Processing Technologies (AVPRO), Norman, OK; Anglicotech LLC, Alpharetta, GA; Assembly Guidance Systems, Inc., Chelmsford, MA; Concurrent Technologies Corporation, Johnstown, PA; GKN Aerospace, Tallassee, AL; The Marlin Group, Arlington, VA; New Mexico Computing Applications Center (NMCAC); One Network Enterprises, Inc., Dallas, TX; Optomec, Inc., Albuquerque, NM; The Pacific Center for Advanced Technology Training (PCATT) at Honolulu Community College, Honolulu, HI; Packer Engineering, Inc., Naperville, IL; Parametric Technology Corporation (PTC), Waltham, MA; PDQ Precision Inc., National City, CA; Portal Dynamics, Inc., Alexandria, VA; REI Systems, Inc., Vienna, VA; Steinbichler Optotechnik GmbH, Neubeuern, Germany; and Superior Controls, Plymouth, MI, have withdrawn as parties to this venture.

No other changes have been made in either the membership or planned activity of the group research project. Membership in this group research project remains open, and NCMS intends to file additional written notifications disclosing all changes in membership.

On February 20, 1987, NCMS filed its original notification pursuant to Section 6(a) of the Act. The Department of Justice published a notice in the Federal Register pursuant to Section 6(b) of the Act on March 17, 1987 (52 FR 8375).

The last notification was filed with the Department on November 22, 2011. A notice was published in the Federal Register pursuant to Section 6(b) of the Act on December 21, 2011 (76 FR 79217).

Patricia A. Brink,
Director of Civil Enforcement Antitrust Division.

[FR Doc. 2012-13976 Filed 6-7-12; 8:45 am]

BILLING CODE P